DEPARTMENT OF HOUSING AND URBAN DEVELOPMENT

[Docket No. FR-7080-N-03]

30-Day Notice of Proposed Information Collection: Compliance Inspection Report and Mortgagee's Assurance of Completion; Forms HUD-92051 and HUD-92300; OMB Control No.: 2502-0189

AGENCY: Office of the Assistant Secretary for Housing—Federal Housing Commissioner, HUD.

ACTION: Notice.

SUMMARY: The Department of Housing and Urban Development (HUD) is seeking approval from the Office of Management and Budget (OMB) for the information collection described below. This notice follows a proposed notice published on September 5, 2023, requesting comments on the renewal of this information collection. In accordance with the Paperwork Reduction Act, HUD is requesting comment from all interested parties on the proposed collection of information. The purpose of this notice is to allow for 30 days of public comment.

DATES: Comments Due Date: February 20, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410; email: PaperworkReductionActOffice@hud.gov.

FOR FURTHER INFORMATION CONTACT: Colette Pollard, Reports Management Officer, REE, Department of Housing and Urban Development, 451 7th Street SW, Washington, DC 20410; email Colette.Pollard@hud.gov or telephone 202-402-3400. This is not a toll-free number. HUD welcomes and is prepared to receive calls from individuals who are deaf or hard of hearing, as well as individuals with speech and communication disabilities. To learn more about how to make an accessible telephone call, pleasevisit: https://www.fcc.gov/consumers/guides/telecommunications-relay-service-trs. Copies of available documents submitted to OMB may be obtained from Ms. Pollard.

SUPPLEMENTARY INFORMATION: This notice informs the public that HUD is seeking approval from OMB for the information collection described in Section A. The Federal Register notice that solicited public comment on the information collection for a period of 60 days was published on September 5, 2023 at 88 FR 60704.

A. Overview of Information Collection

Title of Information Collection: Compliance Inspection Report and Mortgagee's Assurance of Completion.

OMB Approval Number: 2502-0189.

OMB Expiration Date: 01/31/2024.

Type of Request: Extension of currently approved collection.

Form Numbers: HUD-92051, HUD-92300.

Description of the need for the information and proposed use: Accurate and thorough property information is critical to the accuracy of underwriting for the mortgage insurance process. This information collection is needed to ensure newly built homes financed with FHA-insured mortgages are constructed in accordance with acceptable building standards and that any deficiencies found in newly constructed and existing dwellings are corrected.

Respondents: Mortgagees.

Estimated Number of Respondents: 2814.

Estimated Number of Responses: 16,237.

Frequency of Response: Varies.

Average Hours per Response: 0.10 to 0.25 hours.

Total Estimated Burden: 3,158.

B. Solicitation of Public Comment

This notice is soliciting comments from members of the public and affected parties concerning the collection of information described in Section A and more specifically regarding:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

(5) ways to minimize the burden of the collection of information on those who are to respond, including the use of automated collection techniques or other forms of information technology.

HUD encourages interested parties to submit comment in response to these questions.

C. Authority Section 3507 of the Paperwork Reduction Act of 1995, 44 U.S.C. chapter 35.

The public comment period for the notice published on September 5, 2023, closed on November 6, 2023.

D. Summary of Utilizing Forms HUD-92051, Fannie Mae 1004D, or a Letter of Attestation.

Comments and HUD Responses:

Comment: Mortgage Bankers Association (MBA) recommends that HUD give lenders the flexibility to utilize either Form 92051 or Fannie Mae's Form 1004D, or, in certain circumstances a letter of attestation when certifying the completion of construction in the case of new construction properties.

HUD Response: HUD appreciates this feedback. HUD also notes that there are multiple options to demonstrate compliance with the required inspections for new construction financing. The form HUD-92051, Compliance Inspection Report is only applicable when the inspection is performed by an ICC certified RCI or CI or a third-party, who is a registered architect, a structural engineer, or a qualified trades person or contractor, and appropriate state-sanctioned inspection form is an alternative to the HUD-92051.

Comment: MBA recommends that HUD allow lenders to also utilize attestation letters which would not only bring FHA more in line with the government-sponsored enterprises but would also enhance the experience of FHA borrowers.

HUD Response: HUD appreciates this comment and will consider for future policy enhancements.

Comment: MBA recommends that HUD discontinue its Mortgagee's Assurance of Completion Form 92300 due to its redundant nature in certifying necessary repairs or alterations for new construction properties.

HUD Response: HUD appreciates this comment and will consider for future policy enhancements.

Colette Pollard,
Department Reports Management Officer, Office of Policy Development and Research, Chief Data Officer.

[FR Doc. 2024-01003 Filed 1-18-24; 8:45 am]

BILLING CODE 4210-67-P